DEPARTMENT OF HOMELAND SECURITY

Coast Guard

[Docket No. USCG-2024-0050]

National Navigation Safety Advisory Committee Meeting; April 2024 Meeting

AGENCY: U.S. Coast Guard, Department of Homeland Security.

ACTION: Notice of open Federal advisory committee meetings.

SUMMARY: The National Navigation Safety Advisory Committee (Committee) will conduct a series of meetings over 2 days in Bronx, New York to discuss matters relating to maritime collisions, allisions, and groundings; Inland Rules of the Road; International Rules of the Road; navigation regulations and equipment; routing measures; marine information; and aids to navigation systems. All meetings will be open to the public.

DATES:

Meetings: The Committee will hold meetings on Tuesday, April 2, and Wednesday, April 3, 2024, from 8 a.m. to 5:30 p.m. Eastern Daylight Time (EDT). Please note these meetings may adjourn early if the Committee has completed its business.

Comments and supporting documents: To ensure your comments are reviewed by Committee members before the meetings, submit your written comments no later than March 19, 2024.

ADDRESSES: The meetings will be held at the Maritime Academic Center at the State University of New York Maritime College. Additional information about the facility can be found at: https://www.sunymaritime.edu/aboutpublic-programsconference-services/conference-and-meeting-rentalsme College. The meetings will also be held virtually. To join the virtual meetings, contact the individual listed in the FOR FURTHER INFORMATION CONTACT section no later than 1 p.m., EDT on March 29, 2024, to obtain the needed information. The number of virtual lines are limited and will be available on a first-come first-served basis.

Pre-registration Information: Pre-registration is required for attending virtual meetings. You must request attendance by contacting the individual listed in the FOR FURTHER INFORMATION CONTACT section of this notice. You will receive a response with attendance instructions.

The National Navigation Safety Advisory Committee is committed to ensuring all participants have equal access regardless of disability status. If you require reasonable accommodations due to a disability to fully participate, please email Lieutenant Ryan Burk at Ryan.B.Burk@uscg.mil or call (571) 613-3779 as soon as possible.

Instructions: You are free to submit comments at any time, including orally at the meeting as time permits, but if you want Committee members to review your comment before the meeting, please submit your comments no later than March 19, 2024. We are particularly interested in comments regarding the topics in the “Agenda” section below. We encourage you to submit comments through the Federal Decision Making Portal at https://www.regulations.gov. To do so, go to https://www.regulations.gov, type USCG-2024-0050 in the search box and click “Search”. Next, look for this document in the Search Results column, and click on it.

If your material cannot be submitted using https://www.regulations.gov call or email the individual in the FOR FURTHER INFORMATION CONTACT section of this document for alternate instructions. You must include the docket number USCG-2024-0050. Comments received will be posted without alteration at https://www.regulations.gov, including any personal information provided. You may wish to review the Privacy and Security Notice, found via link on the homepage of https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Lieutenant Ryan Burk, Alternate Designated Federal Officer of the National Navigation Safety Advisory Committee, 2703 Martin Luther King Jr Ave. SE, Stop 7418, Washington, DC 20593-7418, telephone (571) 613-3779, or email Ryan.B.Burk@uscg.mil.

SUPPLEMENTARY INFORMATION: Notice of this meeting is in compliance with the Federal Advisory Committee Act (Pub. L. 117-286, 5 U.S.C. ch. 10). The National Navigation Safety Advisory Committee was established on December 4, 2018, by section 601 of the Frank LoBiondo Act of 2018 and is codified in 46 U.S.C. 15107. The Committee operates under the provisions of the Federal Advisory Committee Act and 46 U.S.C. 15109. The Committee provides advice to the Secretary of Homeland Security via the Commandant of the U.S. Coast Guard on matters relating to maritime collisions, allisions, and groundings; Inland Rules of the Road; International Rules of the Road; navigation regulations and equipment; routing measures; marine information; and aids to navigation systems.

Agenda

Day 1

The agenda for the April 2, 2024, meeting is as follows:

(1) Call to order.

(2) Introduction.

(3) Remarks by the Chairman and the Designated Federal Officer (DFO).

(4) Roll call of Committee members and determination of a quorum.

(5) Presentations.

(a) Update on electronic charts and navigation equipment carriage requirements.

(b) Update on published NVICs.

(c) The Port Access Route Study (PARS) to fairway process.

(6) Presentation of Tasks. Following the above presentations, the Committee Chair and the DFO will form subcommittees to discuss the following task statements:

(a) Task Statement 24-01: International Maritime Organization (IMO) Routing Measures on the Outer Continental Shelf (OCS).

(b) Task Statement 24-02: Safety Zone Pilot Program and U.S. Coast Guard Authorities.

(c) Task Statement 24-03: How to best use Automatic Identification System capabilities to ensure safe navigation in and around Offshore Renewable Energy Installation sites.

(7) Public comment period.

(8) Report by Subcommittees on accomplishments.

(9) Adjournment of meeting.

Day 2

The agenda for the April 3, 2024, meeting is as follows:

(1) Call to order.

(2) Introduction.

(3) Remarks by the Chair and the DFO.

(4) Roll call of Committee members and determination of a quorum.

(5) Subcommittee discussions continued from Tuesday, April 2, 2024.

(6) Public comment period.

(7) Subcommittee reports presented to the Committee.

(8) Schedule next meeting date.

(9) Closing remarks by the Chairman and the DFO.

(10) Adjournment of meeting.

A copy of all meeting documentation will be available, by March 19, 2024, by going to the U.S. Coast Guard Homeport website, https://homeport.uscg.mil, selecting the Missions tab, and navigating to the Federal Advisory Committees section. Alternatively, you may contact Lieutenant Ryan Burk as noted in the FOR FURTHER INFORMATION CONTACT section.

A public comment period will be held during each Committee meeting concerning matters being discussed. Speakers are requested to limit their comments to 3 minutes. Please note that this public comment period may end before the period allotted following the last call for comments.

Please contact the individual listed in the FOR FURTHER INFORMATION CONTACT section above to register as a speaker.

Michael D. Emerson,
Director, Marine Transportation Systems.

[FR Doc. 2024-05090 Filed 3-8-24; 8:45 am]

BILLING CODE 9110-04-P